PEACE CORPS

Information Collection Request; Submission for OMB Review

AGENCY: Peace Corps.

ACTION: 30-Day notice and request for comments.

SUMMARY: The Peace Corps will submit the following information collection request to the Office of Management and Budget (OMB) for approval. The purpose of this notice is to allow 30 days for public comment in the Federal Register preceding submission to OMB. We are conducting this process in accordance with the Paperwork Reduction Act of 1995. Peace Corps received two comments noting that Peace Corps should not “define couples as same sex”, which will be addressed in the supporting statement.

DATES: Submit comments on or before September 27, 2013.

ADDRESSES: Comments should be addressed to Denora Miller, Freedom of Information Act Officer. Denora Miller can be contacted by telephone at 202-692-1236 or email at pcfr@peacecorps.gov. Email comments must be made in text and not in attachments.

FOR FURTHER INFORMATION CONTACT: Denora Miller at Peace Corps address above.

SUPPLEMENTARY INFORMATION: Method: The same sex domestic partner applicants will be given this form prior to staging.

Title: Affidavit Declaring Domestic Partner Relationship.

OMB Control Number: 0420-pending.

Type of information collection: New.

Affected public: Individuals or households.

Respondents' obligation to reply: Required to obtain or retain benefits.

Burden to the public:

(a) Estimated number of respondents: 130

(b) Frequency of response: one time

(c) Estimated average burden per response: 2 minutes

(d) Estimated total reporting burden: 4.33 hours

(e) Estimated annual cost to respondents: $0.00

General description of collection: This form seeks information necessary for the Peace Corps' Office of Volunteer Recruitment and Selection to verify that same sex domestic partners applying to be accepted and placed together as Peace Corps Volunteers meet the agency's criteria for placement as a couple.

Request for Comment: Peace Corps invites comments on whether the proposed collection of information is necessary for proper performance of the functions of the Peace Corps, including whether the information will have practical use; the accuracy of the agency's estimate of the burden of the proposed collection of information, including the validity of the information to be collected; and, ways to minimize the burden of the collection of information on those who are to respond, including through the use of automated collection techniques, when appropriate, and other forms of information technology.

This notice issued in Washington, DC, on August 21, 2013.
Garry W. Stanberry,
Deputy Associate Director, Management.

[FR Doc. 2013-20927 Filed 8-27-13; 8:45 am]

BILLING CODE 6051-01-P